DEPARTMENT OF ENERGY

Federal Energy Regulatory Commission

[Project Nos. 2232-381, 2331-014, 2332-021, 2503-048, 2740-041 North and South Carolina]

Duke Energy Corporation; Notice of Availability of Environmental Assessment

September 27, 2000.

An environmental assessment (EA) is available for public review. The EA analyzes the environmental impacts of approving Duke Energy Corporation's (Duke) excavation programmatic agreement (PA) for the above five projects located in North and South Carolina. These projects include the following 16 reservoirs: Lake James, Rodhiss, Hickory, Lookout Shoals, Norman, Mountain Island, Wylie, Fishing Creek, Great Falls, Rocky Creek, Wateree, Ninety-Nine Islands, Gaston Shoals, Jocassee, Keowee and Bad Creek.

In its PA, Duke requests authority to grant permits to excavate up to 2,000 cubic yards (cy) of lakebottom sediments without obtaining prior Commission approval. Duke also asks for authority to grant permits for maintenance excavations involving any amount of sediment. Maintenance excavations are defined in the PA. Applicants would still have to obtain all other necessary local, state and federal permits and many other restrictions apply.

The EA was written by staff in the Office of Energy Projects, Federal Energy Regulatory Commission. In the EA, Commission staff conclude that approving the PA and granting Duke the requested authority would not constitute a major federal action significantly affecting the quality of the human environment. Copies of the EA can be viewed on the web at www.ferc.fed.us/online/rims.htm. Call (202) 208-2222 for assistance. Copies are also available for inspection and reproduction at the Commission's Public Reference Room, located at 888 First Street, NE, Room 2A, Washington, DC 20426, or by calling (202) 208-1371.

Linwood A. Watson, Jr.,
Acting Secretary.

[FR Doc. 00-25331 Filed 10-2-00; 8:45 am]

BILLING CODE 6717-01-M